ENVIRONMENTAL PROTECTION AGENCY

[EPA-HQ-OAR-2009-0548; FRL-9173-3]

Agency Information Collection Activities; Submission to OMB for Review and Approval; Comment Request; Exhaust Emissions of Light-Duty Vehicles in Metropolitan Detroit; EPA ICR No. 2363.01, OMB Control No. 2060-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before August 9, 2010.

ADDRESSES: Submit your comments, referencing Docket ID No. EPA-HQ-OAR-2009-0548, to (1) EPA online using http://www.regulations.gov (our preferred method), by e-mail to a-and-r-docket@epa.gov or by mail to: EPA Docket Center, Environmental Protection Agency, (EPA/DC), Air and Radiation Docket and Information Center, Mail code 28221T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Constance Hart, Assessment and Standards Division, Office of Transportation and Air Quality, Environmental Protection Agency, AAAQMC, 2000 Traverwood Drive, Ann Arbor, MI 48105; telephone number: (734) 214-4340; fax number: (734) 214-4939; e-mail address: hart.connie@epa.gov.

SUPPLEMENTARY INFORMATION: EPA has submitted the following ICR to OMB for review and approval according to the procedures prescribed in 5 CFR 1320.12. On December 10, 2009 (74 FR 65532), EPA sought comments on this ICR pursuant to 5 CFR 1320.8(d). EPA received no comments. Any additional comments on this ICR should be submitted to EPA and OMB within 30 days of this notice.

EPA has established a public docket for this ICR under Docket ID No. EPA-HQ-OAR-2009-0548, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Exhaust Emissions of Light-duty Vehicles in Metropolitan Detroit.

ICR Numbers: EPA ICR No. 2363.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: The EPA is initiating a systematic data collection designed to improve the methods and tools used by the Agency to estimate exhaust emissions as vehicles age. Data to be collected include vehicle type, vehicle characteristics, measurements of tailpipe exhaust emissions and measurements of typical driving behavior.

The collection is a survey, to be conducted by the Office of Transportation and Air Quality (OTAQ) in the Office of Air and Radiation (OAR). This study will be designed to develop and test novel screening, sampling and measurement procedures. These approaches promise to substantially reduce the cost of exhaust emissions measurement as well as to improve the accuracy of resulting estimates.

An innovative feature of this project will be the use of roadside remote-sensing measurements to construct a pool of vehicles from which vehicles can be sampled for purposes of recruitment and measurement using portable emissions measurement systems (PEMS) and portable activity measurement systems (PAMS). The acquisition of remote-sensing measurements for hydrocarbons, carbon-monoxide, and oxides of nitrogen will provide an index of emissions for all vehicles prior to sampling and recruitment for more intensive measurement. The index is expected to facilitate recruitment of vehicles with an emphasis on rare high-emitting vehicles, and provide a means to appropriately relate measured vehicles to the overall fleet. Research questions for the project include: (1) Can remote-sensing be used as a reliable index of emissions across the range of emissions; (2) is it feasible to measure start emissions using portable instruments; (3) can the emissions index used for recruitment also serve as a means to estimate potential non-response bias; and (4) how do numbers of vehicle starts differ between the work week and the weekend.

We plan to collect remote-sensing measurements on approximately 30,000 vehicles, and from this pool, to recruit approximately 250 vehicles for measurement. Tailpipe emissions will be measured over two days under various driving conditions, and vehicle activity under typical conditions over a period of three months. Participation in the program will be voluntary. The target population for the project will include light-duty cars and trucks certified to Tier 2 (Bin 5) or equivalent LEV-II standards (LEV).

Burden Statement: The annual public reporting and recordkeeping burden for this collection of information is estimated to average 1.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private owners of light-duty cars and trucks.

Estimated Number of Respondents: 850.

Frequency of Response: One-Time Event.

Estimated Total Annual Hour Burden: 1,213.

Estimated Total Annual Cost: $33,247 in labor costs. There are no capital or O&M costs.

Changes in the Estimates: As this is a new collection, there is no change in the total estimated burden currently identified in the OMB Inventory of Approved ICR Burdens.

Dated: July 1, 2010.
John Moses,
Director, Collection Strategies Division.

[FR Doc. 2010-16692 Filed 7-7-10; 8:45 am]

BILLING CODE 6560-50-P